DEPARTMENT OF ENERGY

Federal Energy Regulatory Commission

Combined Notice of Filings #1

August 6, 2009.

Take notice that the Commission received the following electric corporate filings:

Docket Numbers: EC09-101-000.

Applicants: Nevada Power Company.

Description: Application of Nevada Power Company for Order Authorizing Acquisition of Jurisdictional Facilities Under Section 203 of the Federal Power Act.

Filed Date: 8/5/2009.

Accession Number: 20090805-5080.

Comment Date: 5 p.m. Eastern Time on Wednesday, August 26, 2009.

Take notice that the Commission received the following exempt wholesale generator filings:

Docket Numbers: EG09-81-000.

Applicants: St. Clair Power, L.P.

Description: Notice of Self-Certification of Exempt Wholesale Generator Status of St. Clair Power, L.P.

Filed Date: 8/6/2009.

Accession Number: 20090806-5042.

Comment Date: 5 p.m. Eastern Time on Thursday, August 27, 2009.

Take notice that the Commission received the following electric rate filings:

Docket Numbers: ER07-53-002.

Applicants: American Transmission Company LLC.

Description: American Transmission Company, LLC submits Original Service Agreement No. 2066 to FERC Electric Tariff, Third Revised Volume No. 1 with Wisconsin Electric Power Company, et al.

Filed Date: 8/5/2009.

Accession Number: 20090806-0027.

Comment Date: 5 p.m. Eastern Time on Wednesday, August 26, 2009.

Docket Numbers: ER09-1546-000.

Applicants: ISO New England Inc. & New England Power.

Description: ISO New England Inc et al. submits Sheet 7016A et al. to FERC Electric Tariff 3, section III—Market Rule 1—Standard Market Design section III.1—Market Operations, to be effective 10/5/09.

Filed Date: 8/5/2009.

Accession Number: 20090806-0025.

Comment Date: 5 p.m. Eastern Time on Wednesday, August 26, 2009.

Docket Numbers: ER96-1551-021; ER09-746-002; ER01-615-017.

Applicants: Public Service Company of New Mexico; Optim Energy Marketing, LLC; Public Service Company of New Mexico.

Description: Public Service Company of New Mexico et al. submits notice to the Commission of a non-material change in status related to their respective market-based rate authorizations.

Filed Date: 8/5/2009.

Accession Number: 20090806-0026.

Comment Date: 5 p.m. Eastern Time on Wednesday, August 26, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-19593 Filed 8-14-09; 8:45 am]

BILLING CODE 6717-01-P